DEPARTMENT OF HEALTH AND HUMAN SERVICES

Agency for Toxic Substances and Disease Registry

[30-Day-19-19GW]

Agency Forms Undergoing Paperwork Reduction Act Review

In accordance with the Paperwork Reduction Act of 1995, the Agency for Toxic Substances and Disease Registry (ATSDR) has submitted the information collection request titled “Exposure Characterization and Measurements during Activities Conducted on Synthetic Turf Fields with Tire Crumb Rubber Infill” to the Office of Management and Budget (OMB) for review and approval. ATSDR previously published a “Proposed Data Collection Submitted for Public Comment and Recommendations” notice on December 26, 2018 to obtain comments from the public and affected agencies. ATSDR received one comment related to the previous notice. This notice serves to allow an additional 30 days for public and affected agency comments.

ATSDR will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Exposure Characterization and Measurements during Activities Conducted on Synthetic Turf Fields with Tire Crumb Rubber Infill—New—Agency for Toxic Substances and Disease Registry (ATSDR).

Background and Brief Description

Currently in the United States, there are more than 12,000 synthetic turf fields in use. While the Synthetic Turf Council has set guidelines for the content of crumb rubber used as infill in synthetic turf fields, manufacturing processes result in differences among types of crumb rubber. Additionally, the chemical composition may vary highly between different processes and source materials and may vary even within granules from the same origin.

From 2016-2018, the Agency for Toxic Substances and Disease Registry and the United States Environmental Protection Agency (ATSDR/US EPA) conducted pilot-scale research under the protocol titled “Collections Related to Synthetic Turf Fields with Crumb Rubber Infill,” and under two information collection requests (ICRs). Activity 1, under OMB Control No. 0923-0054 (expiration date 01/31/2017), aimed to collect tire crumb rubber samples from 40 synthetic turf fields across the U.S. and from nine manufacturing facilities. Under OMB Control No. 0923-0058 (expiration date 08/13/2018), ATSDR/US EPA aimed to evaluate and characterize the human exposure potential to constituents in crumb rubber infill among a convenience sample of 60 field users (Activity 2) and to collect biological specimens (blood and urine) from 45 participants (Activity 3). Preliminary results from the pilot-scale study indicate the need for further investigation for a select group of chemicals to which field users may potentially be exposed.

ATSDR is requesting a new two-year PRA clearance to conduct a supplemental data collection, titled “Exposure Characterization and Measurements during Activities Conducted on Synthetic Turf Fields with Tire Crumb Rubber Infill”. The supplemental study will be a larger-scale assessment of exposure potential for individuals who use or play on synthetic turf fields with tire crumb rubber infill. The new ICR will address key limitations of the pilot-scale study, specifically, the small sample size, the lack of a comparison population, and an extremely short data collection period needed to meet early reporting requirements.

As before, the supplemental study will include field users who are persons who use synthetic turf fields with crumb rubber infill and who routinely perform activities that would result in a high level of contact to crumb rubber. The study will also include persons who play on natural grass fields to provide a comparison group.

The field users will be administered a detailed questionnaire about activity patterns on synthetic turf with crumb rubber infill; the questionnaire is largely the same as the one approved under OMB Control No. 0923-0058 with minor modifications. This instrument will be used to characterize exposure scenarios, including the nature and duration of potential exposures. Additionally, the questionnaire will include queries on potential external sources, such as dietary sources, to select chemicals.

ATSDR will collect urine samples pre- and post-activity. The urine samples will be analyzed for polyaromatic hydrocarbons and will also be archived in case of future development of new analytical methods for potential chemicals of interest.

The research study will screen a total of 220 participants for eligibility. The target sample size is 150 for synthetic turf field users and is 50 for the natural grass field users. The total burden hours for the research study is 184 hours among all of the 220 respondents. There is no cost to the respondents other than their time in the study.

Estimated Annualized Burden Hours
Type of respondents | Form name | Number of respondents | Number of responses per respondent | Average burden per response (in hrs.)
Adult/Adolescent Field Users | Eligibility Screening Form | 110 | 1 | 5/60
| Adult and Adolescent Questionnaire | 100 | 1 | 30/60
| Exposure Measurement Form | 100 | 1 | 20/60
Parents/Guardians of Youth/Child Field Users | Eligibility Screening Form | 110 | 1 | 5/60
| Youth and Child Questionnaire | 100 | 1 | 30/60
Youth/Child Field Users | Exposure Measurement Form | 100 | 1 | 20/60

Jeffrey M. Zirger,
Lead, Information Collection Review Office, Office of Scientific Integrity, Office of Science, Centers for Disease Control and Prevention.

[FR Doc. 2019-08147 Filed 4-22-19; 8:45 am]

BILLING CODE 4163-18-P